DEPARTMENT OF COMMERCE

National Oceanic and Atmospheric Administration

[RTID 0648-XD415]

South Atlantic Fishery Management Council; Public Meetings

AGENCY: National Marine Fisheries Service (NMFS), National Oceanic and Atmospheric Administration (NOAA), Commerce.

ACTION: Notice of public meetings.

SUMMARY: The South Atlantic Fishery Management Council (Council) will hold a meeting of the Dolphin Wahoo Advisory Panel on November 6-7, 2023, and a meeting of the Mackerel Cobia Advisory Panel on November 7-8, 2023.

DATES: The Dolphin Wahoo Advisory Panel meeting will be held November 6, 2023, from 1 p.m. until 5 p.m., EDT and November 7, 2023, from 9 a.m. until 12 p.m. The Mackerel Cobia Advisory Panel meeting will be held November 7, 2023, from 1:30 p.m. until 5 p.m., EDT and November 8, 2023, from 9 a.m. to 5 p.m.

ADDRESSES:

Meeting address: The meetings will be held at the Town and County Inn, 2008 Savannah Highway, Charleston, SC 29407.

The meeting will also be available via webinar. Registration is required. Webinar registration, an online public comment form, and briefing book materials will be available two weeks prior to the meeting at: https://safmc.net/advisory-panel-meetings/.

Council address: South Atlantic Fishery Management Council, 4055 Faber Place Drive, Suite 201, N Charleston, SC 29405.

FOR FURTHER INFORMATION CONTACT: Christina Wiegand, Fishery Social Scientists, SAFMC; phone: (843) 571-4366 or toll free: (866) SAFMC-10; fax: (843) 769-4520; email: christina.wiegand@safmc.net.

SUPPLEMENTARY INFORMATION:

Dolphin Wahoo Advisory Panel (AP) Meeting

The Dolphin Wahoo AP will develop and update a fishery performance report for wahoo, receive a presentation from the National Marine Fisheries Service Southeast Fisheries Science Center on a Dolphin Management Strategy Evaluation (MSE) under development and will be asked to provide feedback on climate-related and other aspects of the MSE. The Dolphin Wahoo AP will also receive updates on recent Council actions including Dolphin Wahoo Regulatory Amendment 3 (addressing minimum size limits and recreational retention limits for dolphin), the Council's Citizen Science Program, and the “What It Means to Me” outreach initiative. The AP will provide input on other topics as needed.

Mackerel Cobia AP

The Mackerel Cobia AP will discuss Framework Amendment 13 to the Fishery Management Plan for Coastal Migratory Pelagics Resources in the Gulf of Mexico and Atlantic Region, which would update catch levels for Atlantic migratory group Spanish mackerel based on the most recent stock assessment (SEDAR 78) and Scientific and Statistical Committee recommendations. The Mackerel Cobia AP will also provide input on Mackerel Port Meetings, mackerel tournament landings, and complete a fishery performance report for Atlantic migratory group king mackerel. The Mackerel Cobia AP will receive updates on the Council's Citizen Science program, the `What It Means to Me” outreach initiative, and offshore wind activities. The AP will provide input on other topics as needed.

Special Accommodations

These meetings are physically accessible to people with disabilities. Requests for auxiliary aid should be directed to the Council office (see ADDRESSES) 5 days prior to the meeting.

Note: The times and sequence specified in this agenda are subject to change.

Authority: 16 U.S.C. 1801 et seq.

Dated: September 26, 2023.
Rey Israel Marquez,
Acting Deputy Director, Office of Sustainable Fisheries, National Marine Fisheries Service.

[FR Doc. 2023-21458 Filed 9-28-23; 8:45 am]

BILLING CODE 3510-22-P